OFFICE OF PERSONNEL MANAGEMENT

Proposed Collection; Comment Request for Review of a New Information Collection System

AGENCY: Office of Personnel Management.

ACTION: Notice.

SUMMARY: In accordance with the Paperwork Reduction Act of 1995 (Public Law 104-13, May 22, 1995), 5 CFR 1320.5(a)(1)(iv), this notice announces that the Office of Personnel Management (OPM) intends to submit to the Office of Management and Budget a request for review of a new information collection. 5 CFR part 317 provides regulations for the administration of a Senior Executive Service. As a part of that Service, a Senior Executive Service Senior Opportunity and Resume System (SOARS) is to be established for the purpose of facilitating the mobility of executives across the Federal government. This System will be collecting resume data from SES members for the purpose of matching this data with available position vacancies for executives.

It is estimated, based upon the pilot that is being used, that 300 short resumes will be completed in the first year of the program. Each resume will take about 30 minutes to complete for an annual estimated burden of 150 hours.

Comments are particularly invited on:

• Whether this collection of information is necessary for the proper performance of functions of the Office of Personnel Management, and whether it will have practical utility;

• Whether our estimate of the public burden of this collection of information is accurate and based on valid assumptions and methodology; and

• Ways in which we can minimize the burden of the collection of information on those who respond through the use of appropriate technological collection techniques or other forms of information technology.

For copies of this proposal, contact Mary Beth Smith-Toomey at 202-606-2150, FAX 202-418-3251 or e-mail mbtoomey@opm.gov. Please include a mailing address with your request.

DATES: Comments on this proposal must be received within 60 calendar days from the date of this publication.

ADDRESSES: Send or deliver comments to: Joyce Edwards, Chief, Office of Executive Resources Management, U.S. Office of Personnel Management, 1900 E Street, NW, Room 6484, Washington, DC 20415.

U.S. Office of Personnel Management.
Kay Coles James,
Director.

[FR Doc. 02-16948 Filed 7-5-02; 8:45 am]

BILLING CODE 6325-42-P